POSTAL RATE COMMISSION

Briefing on Service Quality Surveys

AGENCY: Postal Rate Commission.

ACTION: Notice of briefing.

SUMMARY: The Commission's Office of the Consumer Advocate (OCA) will host a presentation on aggregated results of recent service quality surveys on Wednesday, May 8, 2002, beginning at 1:30 p.m. (eastern time) at the Commission. Presenters will be University of Southern California students who were part of a class involved in survey administration. The survey results form the basis for an OCA report on quality of postal services. The report and a related library reference (OCA-LR-J-2) were filed with the Commission on March 6, 2002. The Commission will broadcast the presentation over its Web site.

DATES: May 8, 2002.

ADDRESSES: Postal Rate Commission (hearing room), 1333 H Street, NW., Washington, DC 20268-0001, suite 300.

FOR FURTHER INFORMATION CONTACT: Stephen L. Sharfman, General Counsel, Postal Rate Commission, 202-789-6820.

Steven W. Williams,
Secretary.

[FR Doc. 02-11305 Filed 5-6-02; 8:45 am]

BILLING CODE 7710-FW-M